DEPARTMENT OF AGRICULTURE

Submission for OMB Review; Comment Request

July 19, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Highly Pathogenic Avian Influenza, All Subtypes, and Exotic Newcastle Diseases; Additional Restrictions.

OMB Control Number: 0579-0367.

Summary of Collection: The Animal Health Protection Act (AHPA) of 2002 is the primary Federal law governing the protection of animal health. The law gives the Secretary of Agriculture broad authority to detect, control, or eradicate pests or diseases of livestock or poultry. The Secretary may also prohibit or restrict or export of any animal or related material if necessary to prevent the spread of any livestock or poultry pest or disease. The AHPA is contained in Title X, Subtitle E, Sections 10401-18 of Public Law 107-171, May 13, 2002, the Farm Security and Rural Investment Act of 2002. The Animal and Plant Health Inspection Service (APHIS), through its Veterinary Services (VS) program, carries out this disease prevention mission. APHIS is clarifying its restrictions on the importation of bird and poultry products from regions where HPAI subtype H5N1 is considered to exist and is adding prohibitions or restrictions on the importation of bird and poultry products from regions where other subtypes of HPAI are considered to exist.

Need and Use of the Information: APHIS will collect the information using the following: (1) Application to Import Controlled Materials or Transport Organisms and Vectors (VS 16-3); (2) Agreement for Handling Restricted Imports of Animal Byproducts and Controlled Materials (VS 16-26); (3) Report of Entry, Shipment of Restricted Imported Animal Products and Animal By Products, and Other Materials (VS 16-78); (4) Application of Seals to Shipping Container; (5) Recordkeeping by Processing Establishments; and (6) Cooperative Service Agreements. Failing to collect this information would make it impossible for APHIS to establish an effective line of defense against introduction of exotic Newcastle disease and HPAI.

Description of Respondents: Business or other for-profits; Not for-profit institutions; Individual or households; Federal Government.

Number of Respondents: 416.

Frequency of Responses: Reporting: On occasion.

Total Burden Hours: 358.

Ruth Brown,
Departmental Information Collection Clearance Officer.

[FR Doc. 2011-18721 Filed 7-22-11; 8:45 am]

BILLING CODE 3410-34-P